DEPARTMENT OF COMMERCE

Foreign-Trade Zones Board

[Order No. 1594]

Grant of Authority for Subzone Status, Haliburton Energy Services, Inc. (Barite Milling), Corpus Christi, Texas

Pursuant to its authority under the Foreign-Trade Zones Act of June 18, 1934, as amended (19 U.S.C. 81a-81u), the Foreign-Trade Zones Board (the Board) adopts the following Order:

Whereas, the Foreign-Trade Zones Act provides for “...the establishment... of foreign-trade zones in ports of entry of the United States, to expedite and encourage foreign commerce, and for other purposes,” and authorizes the Foreign-Trade Zones Board to grant qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Port of Corpus Christi Authority, grantee of Foreign-Trade Zone 122, has made application to the Board for authority to establish a special-purpose subzone at the barite milling facility of Haliburton Energy Services, Inc., located in Corpus Christi, Texas (FTZ Docket 20-2008, filed 04/01/08);

Whereas, notice inviting public comment was given in the Federal Register (73 FR 20246, 04/15/08); and,

Whereas, the Board adopts the findings and recommendations of the examiner's report, and finds the requirements of the FTZ Act and the Board's regulations are satisfied, and that approval of the application is in the public interest;

Now, therefore, the Board hereby grants authority for subzone status for activity related to barite milling at the facility of Haliburton Energy Services, Inc., located in Corpus Christi, Texas (Subzone 122R), as described in the application and Federal Register notice, and subject to the FTZ Act and the Board's regulations, including Section 400.28.

Signed at Washington, D.C., this 19th day of December 2008.

David M. Spooner,
Assistant Secretary of Commerce for Import Administration, Alternate Chairman, Foreign-Trade Zones Board.
Attest:
Andrew McGilvray,
Executive Secretary.

[FR Doc. E8-31168 Filed 12-30-08; 8:45 am]

BILLING CODE 3510-DS-S